DEPARTMENT OF LABOR

Employment and Training Administration

[TA-W-59,214]

Roxford Fordell, Also Known as Nettexx,; Greenville, SC; Notice of Termination of Investigation

Pursuant to section 221 of the Trade Act of 1974, as amended, an investigation was initiated on April 14, 2006 in response to a petition filed by an authorized representative on behalf of workers at Roxford Fordell, also known as Nettexx, Greenville, South Carolina.

The petition has been deemed invalid. The Department has determined that the petitioner is not an authorized representative, nor is the petitioner a company official. Consequently, further investigation in this case would serve no purpose, and the investigation has been terminated.

Signed at Washington, DC, this 19th day of May, 2006.
Linda G. Poole,
Certifying Officer, Division of Trade Adjustment Assistance.

[FR Doc. E6-8944 Filed 6-7-06; 8:45 am]

BILLING CODE 4510-30-P